DEPARTMENT OF DEFENSE

Department of the Army; Corps of Engineers

Chief of Engineers Environmental Advisory Board

AGENCY: Department of the Army, U.S. Army Corps of Engineers DoD.

ACTION: Notice of open meeting.

SUMMARY: In accordance with Section 10(d)(2) of the Federal Advisory Committee Act (Pub. L. 92-463), announcement is made of the following committee meeting:

Name of Committee: Chief of Engineers Environmental Advisory Board (EAB).

Topic: The EAB will discuss national considerations related to ecosystem restoration through integrated water resources management including the recently announced Twelve Points of Action. The meeting will not focus on issues specific to Louisiana.

Date of Meeting: December 6, 2006.

Place: Wyndham New Orleans at Canal Place, 100 Rue Iberville, New Orleans, LA.

Time: 9 a.m. to 12 p.m.

Thirty minutes will be set side for public comment. Members of the public who wish to speak must register prior to the start of the meeting. Registration will begin at 8:30. Statements are limited to 3 minutes.

FOR FURTHER INFORMATION CONTACT: Ms. Rennie Sherman, Executive Secretary, rennie.h.sherman@usace.army.mil 202-761-7771.

SUPPLEMENTARY INFORMATION: The EAB advises the Chief of Engineers by providing expert and independent advice on environmental issues facing the Corps of Engineers. The public meeting will include presentations by the EAB as well as by Corps staff. The meeting is open to the public, and public comment is tentatively scheduled for 30 minutes beginning at 11:15. Each speaker will be limited to 3 minutes in order to accommodate as many people as possible during the available time. Written statements may be submitted prior to the meeting or up to 30 days after the meeting.

Brenda S. Bowen,
Army Federal Register Liaison Officer.

[FR Doc. 06-9377 Filed 11-12-06; 8:45 am]

BILLING CODE 3710-92-M